NUCLEAR REGULATORY COMMISSION

Advisory Committee On Nuclear Waste; Notice of Meeting

The Advisory Committee on Nuclear Waste (ACNW) will hold its 169th meeting on April 18-20, 2006, Room T-2B3, 11545 Rockville Pike, Rockville, Maryland.

The schedule for this meeting is as follows:

Tuesday, April 18, 2006

10 a.m.-10:15 a.m.: Opening Statement (Open)—The ACNW Chairman will make opening remarks regarding the conduct of the meeting.

10:15 a.m.-11:15 a.m.: Overview of Accelerator Mass Spectrometry (Open)—A faculty member of Purdue University (PRIME Lab) will brief the Committee on the methodology of accelerator mass spectrometry, including the statistical analysis of analytical results.

11:15 a.m.-12 Noon: Update on U.S. Department of Energy (DOE) Chlorine-36 Studies at Yucca Mountain (Open)—DOE representatives will update the Committee on the status of Chlorine-36 validation studies at Yucca Mountain, Nevada.

2 p.m.-4:30 p.m.: Briefing from National Academy of Sciences (NAS) on Its 2006 Report on the Transportation of High-Level Nuclear Waste (Open)—NAS representatives will brief the Committee on their recent report titled “Going the Distance? The Safe Transport of Spent Nuclear Fuel and High-Level Radioactive Waste in the United States.” A copy of this report is available on the NAS Web site at http://www.nap.edu/catalog/11538.html.

4:45 p.m.-5:15 p.m.: Proposed Rulemaking on Naturally Occurring or Accelerator-Produced Radioactive Materials (Open)—A representative from NRC's Office of Nuclear Material Safety and Safeguards (NMSS) will brief the Committee on the staff's proposed rulemaking to implement Section 651(e) of the Energy Policy Act of 2005 to include certain discrete sources of naturally occurring or accelerator-produced radioactive materials (NARM) in NRC's regulations for byproduct material.

5:15 p.m.-6:15 p.m.: Discussion of Draft Letters and Reports (Open)—The Committee will discuss proposed ACNW letters.

Wednesday, April 19, 2006

8:30 a.m.-8:35 a.m.: Opening Remarks by the ACNW Chairman (Open)—The ACNW Chairman will make opening remarks regarding the conduct of the meeting.

8:35 a.m.-9:30 a.m.: Update on DOE Activities at the Yucca Mountain Site (Open)—DOE representatives will brief the Committee on recent activities related to the development of a proposed geologic repository at Yucca Mountain.

9:30 a.m.-11:30 a.m.: Update on Nye County Independent Early Warning Drilling Program (Open)—Representatives from Nye County and DOE will provide the Committee with an update of technical developments related to this independent ground water monitoring program.

1 p.m.-2 p.m.: Modeling Igneous Activity: Dynamic Controls on Summit and Flank Eruptions of Basalt (Open)—A faculty member of Cambridge University (an NMSS contractor) will brief the Committee on research regarding a theoretical model for the eruption of basalt through multiple vents originating from a common source. The discussion will address partitioning of flow between summit and flank vents. This work potentially applies to the proposed Yucca Mountain repository.

2 p.m.-3 p.m.: Modeling Igneous Activity: Magma Interactions with a Geologic Repository (Open)—An ACNW consultant from the Johns Hopkins University will present an analysis of the realistic effects of magma solidification during potential interactions with repository drifts and waste packages. This work potentially applies to the proposed Yucca Mountain repository.

3:15 p.m.-4:15 p.m.: DOE Performance Confirmation Program Plan: NRC Staff Perspective and Update (Open)—NMSS representatives will brief the Committee on the staff's preliminary views regarding the most recent update of DOE's Performance Confirmation Program Plan.

4:15 p.m.-5 p.m.: Physical Capacity of Yucca Mountain for the Emplacement of High-Level Waste (Open)—A representative from the Electric Power Research Institute (EPRI) will present a preliminary analysis of the physical capacity of Yucca Mountain for the disposal of additional commercial spent nuclear fuel.

5 p.m.-6 p.m.: Discussion of Draft Letters and Reports (Open)—The Committee will discuss proposed ACNW letters.

Thursday, April 20, 2006

8:30 a.m.-8:35 a.m.: Opening Remarks by the ACNW Chairman (Open)—The ACNW Chairman will make opening remarks regarding the conduct of the meeting.

8:35 a.m.-10:30 a.m.: NRC Radiation Research Program (Open)—Representatives of the Office of Nuclear Regulatory Research will brief the Committee on recent NRC-sponsored activities in the area of health physics research.

10:45 a.m.-4 p.m.: Discussion of Draft Letters and Reports (Open)—The Committee will discuss proposed ACNW letters.

4 p.m.-4:30 p.m.: Miscellaneous (Open)—The Committee will discuss matters related to the conduct of ACNW activities and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Michael R. Snodderly (Telephone 301-415-6927), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Snodderly as to their particular needs.

Further information regarding topics to be discussed, whether the meeting has been canceled or rescheduled, the Chairman's ruling on requests for the opportunity to present oral statements and the time allotted, therefore can be obtained by contacting Mr. Snodderly.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: April 6, 2006.
Andrew L. Bates,
Advisory Committee Management Officer.

[FR Doc. E6-5385 Filed 4-11-06; 8:45 am]

BILLING CODE 7590-01-P [?USGPO Galley End:?]